DEPARTMENT OF COMMERCE

National Oceanic and Atmospheric Administration

50 CFR Part 660

[Docket No. 020402077-01; I.D. 071202E]

Fisheries Off West Coast States and in the Western Pacific; Pacific Coast Groundfish Fishery; End of the Primary Season and Resumption of Trip Limits for the Shore-based Fishery for Pacific Whiting

AGENCY: National Marine Fisheries Service (NMFS), National Oceanic and Atmospheric Administration (NOAA), Commerce.

ACTION: Fishing restrictions; request for comments.

SUMMARY: NMFS announces the end of the 2002 primary season for the shore-based fishery for Pacific whiting (whiting) at 0800 local time (l.t.) July 17, 2002, because the allocation is projected to be reached. This action is intended to keep the harvest of whiting at the 2002 allocation levels.

DATES: Effective from 0800 l.t. July 17, 2002, until the effective date of the 2003 specification and management measures for the Pacific Coast groundfish fishery which will be published in the Federal Register, unless modified, superseded or rescinded. Comments will be accepted through August 5, 2002.

ADDRESSES: Submit comments to D. Robert Lohn, Acting Administrator, Northwest Region (Regional Administrator), NMFS, 7600 Sand Point Way NE., Seattle, WA 98115-0070; or Rod McInnis, Acting Regional Administrator, Southwest Region, NMFS, 501 West Ocean Blvd., Suite 4200, Long Beach, CA 90802-4213.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. On April 15, 2002 (67 FR 18117), the levels of allowable biological catch, the optimum yield (OY) and the commercial OY (the OY minus the tribal allocation) for U.S. harvests of whiting were announced in the Federal Register. For 2002 the whiting OY is 129,600 mt (mt) and the commercial OY is 106,920 mt.

Regulations at 50 CFR 660.323(a)(4) divide the commercial OY into separate allocations for the catcher/processor, mothership, and shore-based sectors of the whiting fishery. The 2002 allocations, which are based on the 2002 commercial OY, are 36,353 mt (34 percent) for the catcher/processor sector, 25,661 (24 percent) for the mothership sector, and 44,906 mt (42 percent) for the shoreside sector.

When each sector's allocation is reached, the primary season for that sector is ended. The shore-based sector is composed of vessels that harvest whiting for delivery to land-based processors. The regulations at 50 CFR 660.323(a)(3)(i) describe the primary season for the shore-based sector as the period(s) when the large-scale target fishery is conducted (when trip limits under 50 CFR 660.323(b) are not in effect). Before and after the primary seasons, per-trip limits are in effect for whiting.

The best available information on July 15, 2002, indicates that 39,460 mt had been taken through July 13, 2002, and that the 44,906 mt shore-based allocation would be reached by 0800 l.t. July 17, 2002. This Federal Register document announces the date that the primary season for the shore-based sector ends, and that per-trip limits are reinstated. Per-trip limits are intended to accommodate small bait and fresh fish markets, and bycatch in other fisheries. To minimize incidental catch of chinook salmon by vessels fishing shoreward of the 100 fm (183 m) contour in the Eureka area, at any time during a fishing trip, a limit of 10,000-lb (4,536 kg) of whiting is in effect year-round, except when landings of whiting are prohibited.

On July 5,2002 (67 FR 44778), NMFS announced fishery restrictions that eliminated the per-trip limits for whiting beginning September 1, 2002. Therefore, the 20,000-lb (9,072 kg) trip limit that was in place before the start of the primary season is reinstated from the end of the primary season to September 1, at which time further taking and retaining, possessing or landing of whiting will be prohibited, unless otherwise announced in the Federal Register.

NMFS Action

For the reasons stated above, and in accordance with the regulations at 50 CFR 660.323(a)(4)(iii)(C), NMFS herein announces:

Effective 0800 l.t. July 17, 2002, until September 1, 2002, no more than 20,000 lb (9,072 kg) of whiting may be taken and retained, possessed or landed by a catcher vessel participating in the shore-based sector of the whiting fishery. On September 1, 2002, further taking and retaining, possessing or landing of whiting will be prohibited, unless otherwise announced in the Federal Register. If a vessel fishes shoreward of the 100-fm (183-m) contour in the Eureka area (43°-40°30′ N. lat.) at any time during a fishing trip, the 10,000-lb (4,536-kg) trip limit applies, as announced in the annual management measures at paragraph IV, B (3)(c)(ii), except when the whiting fishery is closed.

Classification

This action is authorized by the regulations implementing the FMP. The determination to take this action is based on the most recent data available. The aggregate data upon which the determination is based are available for public inspection at the Office of the Regional Administrator (see ADDRESSES) during business hours. This action is taken under the authority of 50 CFR 660.323(a)(4)(iii)(C) and is exempt from review under Executive Order 12866.

Authority: 16 U.S.C. 1801 et seq.

Dated: July 15, 2002.
Virginia M. Fay
Acting Director, Office of Sustainable Fisheries, National Marine Fisheries Service.

[FR Doc. 02-18262 Filed 7-16-02; 3:37 pm]

BILLING CODE 3510-22-S